ENVIRONMENTAL PROTECTION AGENCY

[ER-FRL-6629-3]

Environmental Impact Statements; Notice of Availability

Responsible Agency: Office of Federal Activities, General Information (202) 564-7167 or www.epa.gov/oeca/ofa.

Weekly receipt of Environmental Impact Statements

Filed May 06, 2002 Through May 10, 2002

Pursuant to 40 CFR 1506.9.

EIS No. 020178, Draft EIS, AFS, CO, Lizard Head Road Easement, Application from Private Landowners Requesting a Permit to Cross Public Lands to Access Non-Federal Lands, San Juan National Forest, Dolores Ranger District, Dolores County, CO, Comment Period Ends: July 01, 2002, Contact: Tom Rennick (970) 882-6823.

EIS No. 020179, Final EIS, COE, CA, Salinas Valley Water Project, Construction, Monterey County Water Resources Agency (MCWRA), Issuing of Permits or Approval of Action, Monterey and San Luis Obispo Counties, CA, Wait Period Ends: June 17, 2002, Contact: Robert Smith (415) 977-8450.

EIS No. 020180, Final EIS, AFS, MT, West Lake Timber Sale and Road Decommissioning Project, Implementation, Gallatin National Forest, Hebgen Lake Ranger District, Gallatin County, MT, Wait Period Ends: June 17, 2002, Contact: Susan Lamont (406) 823-6976.

EIS No. 020181, Draft EIS, NRC, VA, Generic EIS- North Anna Power Station, Units 1 and 2, Supplement 7 to NUREG-1437, License Renewal, VA, Comment Period Ends: July 01, 2002, Contact: Andrew Kugler (301) 415-2828.

EIS No. 020182, Draft EIS, NOA, FL, MS, TX, AL, LA, Reef Fish Fishery Management Plan, Secretarial Amendment 1, To Set a 10-Year Rebuilding Plan for Red Grouper, with Associated Impacts on Gag and Other Groupers, Gulf of Mexico, Comment Period Ends: July 01, 2002, Contact: Phil Steele (727) 570-5305. This document is available on the Internet at: http://caldera.sero.nmfs.gov.

EIS No. 020183, Draft EIS, NPS, AZ, Tonto National Monument, General Management Plan, Construct a New Administrative Facility within Monument Boundaries, Implementation, AZ, Comment Period Ends: July 30, 2002, Contact: Elias (Lee) Baiza (928) 467-2241. This document is available on the Internet at: http://www.nps.gov/planning/tont.

EIS No. 020184, Final Supplement, GSA, CA, San Diego-United States Courthouse Annex Street Project, Site Selection and Construction, New Information concerning Addition of the Union Street with Hotel San Diego Facade and Lobby Alternative, Central Business District (CBD), City of San Diego, San Diego County, CA, Wait Period Ends: June 07, 2002, Contact: Rosanne Nieto (415) 522-3490.

EIS No. 020185, Final EIS, UAF, OK, Altus Air Force Base (AFB), Proposed Airfield Repairs, Improvements, and Adjustments to Aircrew Training and Installation of an Instrument Landing System (ILS) and a Microwave Landing System (MLS), Jackson County, OK, Wait Period Ends: June 17, 2002, Contact: Gwen Brewer (580) 481-7700.

EIS No. 020186, Final EIS, FHW, WV, WV-9 Transportation Corridor, Improvements from Martinsburg to Charles Town, Berkeley, Jefferson and Morgan Counties, WV, Wait Period Ends: June 28, 2002, Contact: Thomas J. Smith (304) 347-5928.

EIS No. 020187, Draft Supplemental, AFS, AK, Tongass Land Management Plan Revision for Roadless Area Evaluation for Wilderness Recommendations, Implementation, Tongass National Forest, AK, Comment Period Ends: August 16, 2002, Contact: Larry Lunde (907) 228-6202. This document is available on the Internet at: www.tongass-seis.net.

EIS No. 020188, Final EIS, USA, KY, U.S. Army Armor Center and Fort Knox Northern Training Complex, Construction and Operation of a Multi-Purpose Digital Training Ranger and a Series of Maneuver Areas, Drop and Landing Zones, Fort Knox, KY, Wait Period Ends: June 17, 2002, Contact: Anthony Rekas (703) 692-6413.

EIS No. 020189, Final EIS, NPS, AR, Little Rock Central High School National Historic Site General Management Plan, Implementation, Future Management and Use, Little Rock, AR, Wait Period Ends: June 17, 2002, Contact: Dave Forney (501) 324-5683.

EIS No. 020190, Final EIS, NPS, WY, Devil's Tower National Monument General Management Plan, Implementation, Crook County, WY, Wait Period Ends: June 17, 2002, Contact: Chas Cartwright (307) 467-5283.

Dated: May 14, 2002.
Ken Mittelholtz,
Environmental Protection Specialist, Office of Federal Activities.

[FR Doc. 02-12472 Filed 5-16-02; 8:45 am]

BILLING CODE 6560-50-P